DEPARTMENT OF COMMERCE

International Trade Administration

[C-570-980]

Crystalline Silicon Photovoltaic Cells, Whether or Not Assembled Into Modules, From the People's Republic of China: Preliminary Results of Countervailing Duty Administrative Review; 2013; and Partial Rescission of Countervailing Duty Administrative Review

AGENCY: Enforcement and Compliance, International Trade Administration, Department of Commerce.

SUMMARY: The Department of Commerce (the Department) is conducting the second administrative review of the countervailing duty (CVD) order on crystalline silicon photovoltaic cells, whether or not assembled into modules (solar cells), from the People's Republic of China (PRC). The period of review (POR) is January 1, 2013, through December 31, 2013. We preliminarily determine that JA Solar Technology Yangzhou Co., Ltd. and its cross-owned affiliates, including JingAo Solar Co., Ltd. and Shanghai JA Solar Technology Co., Ltd., (collectively, JA Solar) received countervailable subsidies during the POR. Interested parties are invited to comment on these preliminary results.

DATES: Effective date: January 8, 2016.

FOR FURTHER INFORMATION CONTACT: Cynthia Baker or Gene Calvert, AD/CVD Operations, Office VII, Enforcement and Compliance, International Trade Administration, U.S. Department of Commerce, 14th Street and Constitution Avenue NW., Washington, DC 20230; telephone: (202) 482-6251, and (202) 482-3586, respectively.

SUPPLEMENTARY INFORMATION:

Scope of the Order

The merchandise subject to the CVD order is crystalline silicon photovoltaic cells, and modules, laminates, and panels, consisting of crystalline silicon photovoltaic cells, whether or not partially or fully assembled into other products, including, but not limited to, modules, laminates, panels, and building integrated materials. A full description of the scope of the order is contained in the Department memorandum, “Decision Memorandum for the Preliminary Results of the Countervailing Duty Administrative Review of Crystalline Silicon Photovoltaic Cells, Whether or Not Assembled Into Modules, from the People's Republic of China; 2013,” dated concurrently with this notice (Preliminary Decision Memorandum) and hereby adopted by this notice.

The Preliminary Decision Memorandum is a public document and is on file electronically via Enforcement and Compliance's Antidumping and Countervailing Duty Centralized Electronic Service System (ACCESS). ACCESS is available to registered users at http://access.trade.gov and in the Central Records Unit, located in Room B8024 of the main Department of Commerce building. In addition, a complete version of the Preliminary Decision Memorandum can be accessed directly at http://www.trade.gov/frn/index.html. The signed Preliminary Decision Memorandum and the electronic version of the Preliminary Decision Memorandum are identical in content.

Methodology

The Department is conducting this administrative review in accordance with section 751(a)(1)(A) of the Tariff Act of 1930, as amended (the Act). For each of the subsidy programs found countervailable, we preliminarily find that there is a subsidy, (i.e., a financial contribution from an authority that gives rise to a benefit to the recipient) and that the subsidy is specific.¹ For a full description of the methodology underlying all of the Department's conclusions, including our reliance, in part, on adverse facts available pursuant to sections 776(a) and (b) of the Act, see the Preliminary Decision Memorandum.

¹ See sections 771(5)(B) and (D) of the Act regarding financial contribution; section 771(5)(E) of the Act regarding benefit; and section 771(5A) of the Act regarding specificity.

A list of topics discussed in the Preliminary Decision Memorandum is provided at Appendix I to this notice.

Partial Rescission of Review

Pursuant to 19 CFR 351.213(d)(1), the Department will rescind an administrative review, in whole or in part, if the parties that requested a review withdraw the request within 90 days of the date of publication of the notice of initiation. For those companies named in the Initiation Notice ² for which all review requests were timely withdrawn, we are rescinding this administrative review in accordance with 19 CFR 351.213(d)(1). These companies are listed at Appendix II to this notice. For these companies, countervailing duties shall be assessed at rates equal to the rates of cash deposits for estimated countervailing duties required at the time of entry, or withdrawn from warehouse, for consumption, during the period January 1, 2013, through December 31, 2013, in accordance with 19 CFR 351.212(c)(2).

² See Initiation of Antidumping and Countervailing Duty Administrative Reviews, 80 FR 6041 (February 4, 2015) (Initiation Notice).

Companies Not Selected for Individual Review

There are two companies for which a review was requested and not rescinded, and which were not selected as mandatory respondents: Changzhou Trina Solar Energy Co., Ltd. (Trina Solar) and Wuxi Suntech Power Co., Ltd. (Suntech).³ Because JA Solar is the sole mandatory respondent, we assigned to Trina Solar and Suntech, the rate calculated for JA Solar.

³ We note that untimely requests for withdrawal of review were also submitted on behalf of Shanghai JA Solar Technology Co., Ltd., and JingAo Solar Co., Ltd. However, we have preliminarily determined that these companies are cross-owned with the mandatory respondent, JA Solar Technology Yangzhou Co., Ltd., under 19 CFR 351.525(b)(6)(vi), and are, thereby, subject to the review. See Preliminary Decision Memorandum.

⁴ Cross-owned affiliates are: JingAo Solar Co., Ltd.; JA Solar Technology Yangzhou Co., Ltd.; Jing Hai Yang Semiconductor Material (Donghai) Co., Ltd.; Donghai JA Solar Technology Co., Ltd.; JA (Hefei) Renewable Energy Co., Ltd. (JA Hefei); Hefei JA Solar Technology Co., Ltd.; Solar Silicon Valley Electronic Science and Technology Co., Ltd.; Hebei Ningjin Songgong Semiconductor Co., Ltd.; Shanghai JA Solar Technology Co., Ltd.; Ningjin Songgong Electronic Materials Co., Ltd.; JingLong Industry and Commerce Group Co., Ltd.; Ningjin Guiguang Electronic Investment Co., Ltd (Ningjin Guiguang); Yangguang Guifeng Electronic Technology Co., Ltd.; Ninjing Jingxing Electronic Materials Co., Ltd.; Ningjin Saimei Ganglong Electronic Materials Co., Ltd.; Jingwei Electronic Material Co., Ltd.; Ningjin Changlong Electronic Materials Manufacturing Co.; Ningjin Jingfeng Electronic Materials Co., Ltd.; Ningjin County Jingyuan New Energy Investment Co., Ltd. (Ninjing County Jingyuan); Xingtai Jinglong Electronic Materials Co., Ltd.; Hebei Yujing Electronic Science and Technology Co., Ltd.; Hebei Ningtong Electronic Materials Co., Ltd.; and Ningjing Sunshine New Energy Co., Ltd. See Preliminary Decision Memorandum.

Preliminary Results of Review

As a result of this review, we preliminarily determine the countervailable subsidy rates to be:

Company | Subsidy rate (percent)
JA Solar Technology Yangzhou Co., Ltd. and its cross-owned affiliates ⁴ | 19.62 percent.
Changzhou Trina Solar Energy Co., Ltd | 19.62 percent.
Wuxi Suntech Power Co., Ltd | 19.62 percent.

Disclosure and Public Comment

The Department intends to disclose to interested parties the calculations performed in reaching these preliminary results within five days of the date of publication of this notice in accordance with 19 CFR 351.224(b). Interested parties may submit case briefs, rebuttal briefs, and hearing requests.⁵ For a schedule of the deadlines for filing case briefs, rebuttal briefs, and hearing requests, see the Preliminary Decision Memorandum.

⁵ See 19 CFR 351.309(c)-(d), 19 CFR 351.310(c).

Unless the deadline is extended pursuant to section 751(a)(3)(A) of the Act, we intend to issue the final results of this administrative review, including the results of our analysis of issues raised in any written briefs, not later than 120 days after the date of publication of this notice.

Assessment Rates

Upon issuance of the final results, the Department shall determine, and U.S. Customs and Border Protection (CBP) shall assess, countervailing duties on all appropriate entries covered by this review. We intend to issue instructions to CBP 15 days after publication of the final results of this review.

Cash Deposit Instructions

Pursuant to section 751(a)(2)(C) of the Act, the Department also intends to instruct CBP to collect cash deposits of estimated countervailing duties, in the amounts shown above for each of the respective companies shown above, on shipments of subject merchandise entered, or withdrawn from warehouse, for consumption on or after the date of publication of the final results of this review. For all non-reviewed firms, we will instruct CBP to continue to collect cash deposits at the most-recent company-specific or all others rate applicable to the company, as appropriate. These cash deposit requirements, when imposed, shall remain in effect until further notice.

These preliminary results are issued and published in accordance with sections 751(a)(1) and 777(i)(1) of the Act, and 19 CFR 351.221(b)(4).

Dated: December 31, 2015.
Paul Piquado,
Assistant Secretary for Enforcement and Compliance.

Appendix I—List of Topics Discussed in the Preliminary Decision Memorandum

I. Summary

II. Background

III. Subsidies Valuation

IV. Use of Facts Otherwise Available and Adverse Inferences

V. Analysis of Programs

VI. Verification

VII. Disclosure and Public Comment

VIII. Conclusion

Appendix II—Rescinded Companies

1. Yingli Energy (China) Company Limited

2. Yingli Green Energy Holding Company Limited

3. Baoding Tianwei Yingli New Energy Resources Co., Ltd.

4. Baoding Jiasheng Photovoltaic Technology Co. Ltd.

5. Beijing Tianneng Yingli New Energy Resources Co. Ltd.

6. Hainan Yingli New Energy Resources Co., Ltd.

7. Hengshui Yingli New Energy Resources Co., Ltd.

8. Lixian Yingli New Energy Resources Co., Ltd.

9. Tianjin Yingli New Energy Resources Co., Ltd.

10. Yingli Green Energy International Trading Company Limited

11. Yingli Green Energy Americas, Inc.

12. Era Solar Co., Ltd.

13. Canadian Solar, Inc.

14. Canadian Solar International Limited

15. Canadian Solar Manufacturing (Changshu) Inc.

16. Canadian Solar Manufacturing (Luoyang) Inc.

17. Canadian Solar (USA) Inc.

18. CSG PVTech Co., Ltd.

19. Changzhou NESL Solartech Co., Ltd.

20. DelSolar Co., Ltd.

21. Dongfang Electric (Yixing) MAGI Solar Power Technology Co., Ltd.

22. ET Solar Energy Limited

23. Hengdian Group DMEGC Magnetics Co., Ltd.

24. Himin Clean Energy Holdings Co., Ltd.

25. Innovosolar

26. Jiawei Solarchina Co., Ltd.

27. Jinko Solar Co., Ltd.

28. Jinko Solar Import and Export Co, Ltd.

29. Jinko Solar International Limited

30. Jiangsu Green Power PV Co., Ltd.

31. Jiangsu Sunlink PV Technology Co., Ltd.

32. Konca Solar Cell Co., Ltd.

33. Kuttler Automation Systems (Suzhou) Co., Ltd.

34. LDK Solar Hi-Tech (Suzhou) Co., Ltd.

35. LDK Solar Hi-Tech (Nanchang) Co., Ltd.

36. Lightway Green New Energy Co., Ltd.

37. Leye Photovoltaic Science Tech.

38. Magi Solar Technology

39. Motech (Suzhou) Renewable Energy Co., Ltd.

40. Ningbo ETDZ Holdings, Ltd.

41. Ningbo Ulica Solar Science & Technology Co., Ltd.

42. Perlight Solar Co., Ltd.

43. ReneSola J iangsu Ltd.

44. Renesola Zhejiang Ltd.

45. Sumec Hardware & Tools Co., Ltd.

46. Solarbest Energy-Tech (Zhejiang) Co., Ltd.

47. Shenglong PV-Tech

48. ShunFeng PV

49. Sopray Energy Co., Ltd.

50. Luoyang Suntech Power Co., Ltd.

51. Suntech Power Co., Ltd.

52. Shenzhen Suntech Power Co., Ltd.

53. Suzhou Shenglong PV-Tech Co., Ltd.

54. Tianwei New Energy (Chengdu) PV Module Co., Ltd.

55. Upsolar Group, Co. Ltd.

56. Wanxiang Import & Export Co., Ltd.

57. Yangzhou Rietech Renewal Energy Co., Ltd.

58. Yangzhou Suntech Power Co., Ltd.

59. Wuxi Sunshine Power Co., Ltd.

60. Zhiheng Solar Inc.

61. Zhejiang ZG-Cells Co., Ltd.

62. Zhejiang Xinshun Guangfu Science and Technology Co., Ltd.

63. Zhejiang Jiutai New Energy Co., Ltd.

64. Zhejiang Shuqimeng Photovoltaic Technology Co., Ltd.

65. Zhenjiang Rietech New Energy Science & Technology Co., Ltd.

66. Trina Solar (Changzhou) Science & Technology Co., Ltd.

67. tenKsolar (Shanghai) Co., Ltd.

68. Shanghai BYD Company Limited

69. BYD (Shangluo) Industrial Co., Ltd.

70. Ningbo Qixin Solar Electrical Appliance Co., Ltd.

[FR Doc. 2016-00182 Filed 1-7-16; 8:45 am]

BILLING CODE 3510-DS-P